POSTAL SERVICE

Privacy Act of 1974; System of Records

AGENCY: Postal Service®.

ACTION: Notice of new system of records.

SUMMARY: The United States Postal Service ® (USPS® or Postal Service) is proposing to create a new Customer Privacy Act System of Records (SOR) to support an initiative to centralize Commercial Mail Receiving Agency (CMRA) records into an electronic database, improve the security of the In-Person enrollment process, and consolidate all CMRA paper and electronic records under one new and dedicated SOR. Previous Federal Register Notices for CMRA records that covered the current manual paper record system were published as USPS SOR 840.000, Customer Mailing and Delivery Instructions.

DATES: These revisions will become effective without further notice on September 30, 2022, unless responses to comments received on or before that date, result in a contrary determination.

ADDRESSES: Comments may be submitted via email to the Privacy and Records Management Office, United States Postal Service Headquarters (privacy@usps.gov). To facilitate public inspection, arrangements to view copies of any written comments received will be made upon request. All submitted comments and attachments are part of the public record and subject to disclosure. Do not enclose any material in your comments that you consider to be confidential or inappropriate for public disclosure.

FOR FURTHER INFORMATION CONTACT: Janine Castorina, Chief Privacy and Records Management Officer, Privacy and Records Management Office, 202-268-3069 or privacy@usps.gov.

SUPPLEMENTARY INFORMATION: This notice is in accordance with the Privacy Act requirement that agencies publish their systems of records in the Federal Register when there is a revision, change, or addition, or when the agency establishes a new system of records. The Postal Service has determined that the creation of a new SOR is needed to support the implementation of an online application for CMRA owners and managers to enter the data collected on Postal Service (PS) Form 1583—Application for Delivery of Mail through an Agent, and to consolidate all functions related to the CMRA application, enrollment, and administration processes.

I. Background

A CMRA is a private business, registered with the Postal Service, that acts as an authorized agent on behalf of U.S. Postal Service customers to accept delivery of U.S. mail at an alternate address managed by the authorized agent. Currently, U.S. Postal Service customers apply for delivery of mail to a CMRA by voluntarily providing selected personally identifying information (PII) to the CMRA and the Postal Service via a paper form, Postal Service (PS) Form 1583—Application for Delivery of Mail through an Agent. The CMRA maintains a copy of this application form and provides a paper copy of each customer's completed form to the Postal Service each quarter. These paper records are maintained in hard-copy form at the respective delivery units based on ZIP Code™.

The Postal Service is proposing to convert all decentralized paper enrollment records into a centralized electronic database and enhance the in-person enrollment process for CMRA agents and customers. CMRA owners and managers will maintain an online account with the USPS Business Customer Gateway (BCG) portal. The BCG portal will be used to access a separate online CMRA registration database. As part of the enrollment process, PS Form 1583—Application for Delivery of Mail through an Agent, asks customers to produce two valid forms of identification, residential and/or business addresses, as well as the address to where mail may be forwarded by the CMRA. The CMRA owner or manager will enter the information collected on this form into the CMRA registration database and upload a legible scanned copy of each identification document.

These proposed changes are designed to standardize the application and enrollment process for CMRA customers through a centralized online system that will provide increased assurance that mail is delivered as addressed and mitigate the risk of fraudulent activity.

II. Rationale for Creation of a New USPS Privacy Act Systems of Records

As indicated above, CMRA records were previously covered by USPS SOR 840.000, Customer Mailing and Delivery Instructions. USPS SOR 845.000, Commercial Mail Receiving Agency (CMRA) Records is being created to support the implementation of a centralized online database of customer data collected on PS Form 1583, and consolidate all administrative, review and compliance functions related to the CMRA process. This new centralized approach and online database is expected to improve efficiency, reduce costs, and improve the effectiveness for oversight and compliance efforts.

III. Description of the New System of Records

Pursuant to 5 U.S.C. 552a(e)(11), interested persons are invited to submit written data, views, arguments, or comments on this proposal. A report of the proposed new SOR has been sent to Congress and to the Office of Management and Budget (OMB) for their evaluations. The Postal Service does not expect this new system of records to have any adverse effect on individual privacy rights. The new USPS Customer System of Records (SOR), SOR 845.000, Commercial Mail Receiving Agency (CMRA) Records is provided below in its entirety.

SYSTEM NAME AND NUMBER:

USPS 845.000, Commercial Mail Receiving Agency (CMRA) Records.

SECURITY CLASSIFICATION:

None.

SYSTEM LOCATION:

USPS Headquarters, Eagan, MN Accounting Service Center.

SYSTEM MANAGER(S):

Vice President, Retail and Post Office Operations, United States Postal Service, 475 L'Enfant Plaza SW, Washington, DC 20260.

AUTHORITY FOR MAINTENANCE OF THE SYSTEM:

39 U.S.C. 101, 401, 403, 404.

PURPOSE(S) OF THE SYSTEM:

1. To administer CMRA application, enrollment and fulfillment processes.

2. To verify a customer's identity when applying for service via a Commercial Mail Receiving Agency (CMRA).

3. To permit authorized delivery of mail to the addressee's agent via a CMRA.

4. To provide for efficient and secure mail delivery services.

5. To ensure proper delivery of mail as addressed

6. To protect customers from mail fraud and identity theft through identity proofing during the CMRA enrollment process.

7. To enhance In-Person identity proofing, improve Identity Document fraud detection and enable a customer to successfully complete identity proofing activities required for access to CMRA services.

8. To provide customers with the option to voluntarily submit scanned images of government issued IDs and other documents for proof of identity or current address, that will be used for identity verification and to secure mail delivery to the correct recipient.

CATEGORIES OF INDIVIDUALS COVERED BY THE SYSTEM:

1. Customers requesting delivery of mail through an agent via a CMRA.

2. Commercial Mail Receiving Agency (CMRA) owners and managers that act as an authorized agent on behalf of U.S. Postal Service customers

CATEGORIES OF RECORDS IN THE SYSTEM:

1. Residential Customer information: Name, address, address verification via photocopy of document from prescribed list of documents, phone number, email address, date(s) of birth, customer ID(s) number and photocopy, expiration dates, signature, Private Mailbox application number, customer's authorized representative and list of minors receiving mail by a guardian, address that mail is forward to, copies of protective court orders submitted by the customer.

2. Business Customer information: Name, address, address verification via photo copy of document from prescribed list of documents, phone number, email address, date(s) of birth, customer ID(s) number and photo copy, expiration dates, signature, Private Mail Box application number, business names, and registration information, type of business, business registration location, members of the business organization who will be receiving mail, customer's authorized representative, address that mail is forward to, copies of protective court orders submitted by the customer.

3. Customer Mail Receiving Agent (CMRA) Agency information: Agent name, address, signature. Email address, and phone number. Customer information collected on PS Form 1583 Application for Delivery of Mail Through Agent will be collected and maintained by the CMRA.

4. Verification information: Photocopies or scanned images of IDs and address documents, customer name, address, signature, date of birth ID or document expiration date, business name, registration number.

RECORD SOURCE CATEGORIES:

Customers, designated individuals authorized to collect mail on behalf of a customer, and Commercial Mail Receiving Agency (CMRA) owners and managers.

ROUTINE USES OF RECORDS MAINTAINED IN THE SYSTEM, INCLUDING CATEGORIES OF USERS AND PURPOSES OF SUCH USES:

Standard routine uses 1. through 7., 10., and 11. apply. In addition:

a. Information may be disclosed for the purpose of identifying an address as an address of an agent to whom mail is delivered on behalf of other persons. This routine use does not authorize the disclosure of the identities of persons on behalf of whom agents receive mail.

All routine uses are subject to the following exception: Information concerning an individual who has filed an appropriate protective court order with their CMRA application will not be disclosed under any routine use except pursuant to the order of a court of competent jurisdiction and subject to the approval of the USPS General Counsel.

POLICIES AND PRACTICES FOR STORAGE OF RECORDS:

Automated databases, computer storage media, and paper.

POLICIES AND PRACTICES FOR RETRIEVAL OF RECORDS:

By Commercial Mail Receiving Agency (CMRA) location, customer name, address, private mailbox number, or by customer ID(s).

POLICIES AND PRACTICES FOR RETENTION AND DISPOSAL OF RECORDS:

1. Records related to CMRA customer applications are retained for 2 years after the private mailbox is closed.

2. Records existing on paper are destroyed by burning, pulping, or shredding. Records existing on computer storage media are destroyed according to the applicable USPS media sanitization practice.

ADMINISTRATIVE, TECHNICAL, AND PHYSICAL SAFEGUARDS:

Paper records, computers, and computer storage media are located in controlled-access areas under supervision of program personnel. Access to these areas is limited to authorized personnel, who must be identified with a badge.

Access to records is limited to individuals whose official duties require such access. Contractors and licensees are subject to contract controls and unannounced on-site audits and inspections.

Computers are protected by mechanical locks, card key systems, or other physical access control methods. The use of computer systems is regulated with installed security software, computer logon identifications, and operating system controls including access controls, terminal and transaction logging, and file management software.

RECORD ACCESS PROCEDURES:

Requests for access must be made in accordance with the Notification Procedure above and USPS Privacy Act regulations regarding access to records and verification of identity under 39 CFR 266.5.

CONTESTING RECORD PROCEDURES:

See Notification Procedures below and Record Access Procedures above.

NOTIFICATION PROCEDURES:

Customers wanting to know if information about them is maintained in this system pertaining to mail delivery by agents, noncompliant mailboxes, must address inquiries to their local postmasters. Customers should include name, address, and other identifying information.

EXEMPTIONS PROMULGATED FOR THE SYSTEM:

None.

HISTORY:

None.

Sarah Sullivan,
Attorney, Ethics & Legal Compliance.

[FR Doc. 2022-18822 Filed 8-30-22; 8:45 am]

BILLING CODE 7710-12-P